DEPARTMENT OF AGRICULTURE

Cooperative State Research, Education, and Extension Service

Notice of Intent To Establish an Information Collection

AGENCY: Cooperative State Research, Education, and Extension Service, USDA.

ACTION: Notice and request for comments.

SUMMARY: In accordance with the Paperwork Reduction Act of 1995 and Office of Management and Budget (OMB) regulations (5 CFR part 1320) which implement the Paperwork Reduction Act of 1995 (44 U.S.C. Chapter 35), this notice announces the Cooperative State Research, Education, and Extension Service's (CSREES) intention to request approval to establish an information collection for the CSREES Current Research Information System (CRIS).

DATES: Submit comments on or before September 4, 2003.

ADDRESSES: Address all comments to Jason Hitchcock, E-Government Program Leader, Information Systems and Technology Management; CSREES/USDA; Mail Stop 2216; 1400 Independence Avenue, SW.; Washington, DC 20250-2216. Comments may be sent electronically to: jhitchcock@csrees.usda.gov.

FOR FURTHER INFORMATION CONTACT: Jason Hitchcock at (202) 720-4343 or via the above e-mail address.

SUPPLEMENTARY INFORMATION:

Title: CSREES Current Research Information System (CRIS).

OMB Number: 0524-NEW.

Expiration Date of Current Approval: Not applicable.

Type of Request: Intent to seek approval to establish an information collection for three years.

Abstract: The United States Department of Agriculture (USDA), Cooperative State Research, Education, and Extension Service (CSREES) administers several competitive, peer-reviewed research, education, and extension programs, under which awards of a high-priority are made. These programs are authorized pursuant to the authorities contained in the Competitive, Special, and Facilities Research Grants Act of August 4, 1965, as amended (7 U.S.C. 450i); the National Agricultural Research, Extension, and Teaching Policy Act of 1977, as amended (NARETPA) (7 U.S.C. 3101 et seq.); the Agricultural Research, Extension, and Education Reform Act of 1998 (7 U.S.C. 7601 et seq.); and other legislative authorities.

CSREES also administers several formula-funded research programs. The programs are authorized pursuant to the authorities contained in the Hatch Act of 1887 (7 U.S.C. 361a-i); McIntire-Stennis Cooperative Forestry Research Act of October 10, 1962 (16 U.S.C. 582a et seq.); section 1445 of NARETPA (7 U.S.C. 3222); and section 1433 of NARETPA (7 U.S.C. 3195).

The Current Research Information System (CRIS) is the U.S. Department of Agriculture's documentation and reporting system for ongoing agricultural, food science, human nutrition, and forestry research. CRIS Form AD-416, Research Resume; CRIS Form AD-417, Classification of Research; CRIS Form AD-419, Research Funds and Staff Support; and CRIS Form AD-421, Progress Report constitute an information collection for publicly-supported research projects as set forth in 7 CFR Parts 3400-3419. This information collection is necessary in order to provide descriptive information regarding individual research activities and integrated activities, to document expenditures and staff support for the activities, and to monitor the progress and impact of such activities.

The historical mission of CRIS, broadly stated, is to document the research activities of the USDA and the State agricultural research system partners, to satisfy a variety of reporting requirements; and to provide access to research information. This mission supports one of the CSREES' primary functions, stated in the agency strategic plan, of providing program leadership to identify, develop, and manage programs to support university-based and other institutional research.

The boundaries and scope of the CRIS mission are being expanded each year toward a more comprehensive purpose. As such, the information collected for CRIS is utilized in an essentially unlimited number of ways for a wide array of purposes. Generally, CRIS provides ready access to information through public web accessible data as well as individually requested, customized reports and services for agency officials, program leaders, administrators and managers. The information provided helps users to keep abreast of the latest developments in agricultural, food science, human nutrition and forestry research; track resource utilization in specific target areas of research; plan for future research activities; plan for resource allocation to research programs; avoid costly duplication of research effort; aid in coordination of research efforts addressing similar problems in different locations; and aid researchers in establishing valuable contacts within the research community.

Descriptive information pertaining to documented projects is available to the general public as well as the agricultural research community contributing to CRIS. Limited financial information is available on individual grant projects and cooperative agreements as well as summary financial information through the CRIS web site.

Cooperating institutions, including the state agricultural experiment stations, state forestry schools, 1862 land-grant institutions and 1890 land-grant institutions have access to all the data pertaining to their institutions. Many institutions take advantage of this access utilizing CRIS system facilities to manage the research programs at their institutions.

In addition, CSREES staff members can request specialized reports directly from the CRIS staff. These requests can include financial disclosure pertaining to a particular subject area or targeted program. The nature of this type of request characterizes one of the strengths of the CRIS information collection. The system collects obligations and expenditures on individual projects; however, information can be retrieved and aggregated based on subject areas or targeted programs, and corresponding financial information can be tabulated accordingly. The inclusion of subject-based classifications and subject specific descriptive fields supports a unique retrieval capability in this system. The information can be utilized nationally, regionally, or at more detailed levels, by program leaders, budget officials, and administrators to identify resource utilization, monitor research activity in specific target areas, support decision making and resource allocation, not just on individual projects, but also for specific program areas. Combining system capabilities facilitates the program evaluation, accountability, and decision-making processes.

Estimate of Burden: The preferred method for submitting this information collection is electronic via a web interface. CSREES will accept electronic submissions by other means and on rare occasions, by a fax transmission. A submission is made once. There may be instances that a second submission is required, however, this would involve corrections or revisions to the initial submission. There are no special circumstances that would cause an information collection to be conducted in a manner that would require respondents to submit more than an original and two copies of any document. In fact, paper-based submissions are discouraged.

Determination of hour burden estimates for the CRIS data collection was accomplished by requesting estimates from nine individuals who have significant experience in the generation of information to satisfy the collection requirements of the AD-416, AD-417, AD-419 and AD-421 forms. The basic unit of measure in CRIS is a project. As such for purposes of this estimate, a respondent was treated as all responses related to a single project. Typically the information to provide data on the four forms is the result of work processes performed by a number of individuals, both professional and administrative. Accordingly the estimate was developed by tabulating burden hours in two categories, the first, scientific/professional, and the second, administrative. The estimates provided varied in magnitude. The variation is due to significant differences in the internal procedures and processes utilized at the individual locations as well as differences between individual interpretation of the inclusion of efforts contributed to the development of the information. Responses were received from eight of the nine individuals. The data was summarized to develop common burden hour estimates related to each individual form. These estimates were then projected onto the total volume of the forms processed by CRIS in an annual cycle.

CSREES estimates the number of responses for the CRIS Form AD-416 will be 3,258 with an estimated response time of 3.9 hours per form, representing a total annual burden of 12,706 hours for this form. CSREES estimates the number of responses for the CRIS Form AD-417 will be 3,258 with an estimated response time of .7 hours per form, representing a total annual burden of 2,281 hours for this form. CSREES estimates that the number of responses for the CRIS Form AD-419 will be 11,767 with an estimated response time of 1.4 hours per form, representing a total annual burden of 16,474 hours for this form. CSREES estimates the number of responses for the CRIS Form AD-421 will be 12,158 with an estimated response time of 2.7 hours per form, representing a total annual burden of 32,827 hours for this form. Thus, for this CRIS information collection, CSREES estimates a total of 30,441 annual responses, representing an estimated 64,288 annual burden hours.

Copies of this information collection can be obtained from Jason Hitchcock, E-Government Program Leader, Information Systems and Technology Management; CSREES/USDA; Mail Stop 2216; 1400 Independence Avenue, SW.; Washington, DC 20250-2216; or sent electronically to: jhitchcock@csrees.usda.gov.

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

Done at Washington, DC, this 24th day of June, 2003.
Gary Cunningham,
Associate Administrator, Cooperative State Research, Education, and Extension Service.

[FR Doc. 03-16507 Filed 6-30-03; 8:45 am]

BILLING CODE 3410-22-M